DEPARTMENT OF COMMERCE

National Oceanic and Atmospheric Administration

[I.D. 050301E]

Individual Fishing Quotas Program for Pacific Halibut and Sablefish in the Alaska Fisheries

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before July 9, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Patsy A. Bearden, F/AKR2, P.O. Box 21668, Juneau, AK 99802-1668 (telephone 907-586-7008).

SUPPLEMENTARY INFORMATION:

I. Abstract

NMFS manages the Pacific halibut and sablefish fisheries in Alaska through an Individual Fishery Quota program (IFQ) that allocates annual total catch limits to individual fishermen. Fishermen are assigned Quota Shares (QS)for the fisheries, and then annually received an IFQ. As part of its management program, NMFS monitors the IFQs assigned to vessel categories B, C, or D by corporations and partnerships.

To ensure that corporations and partnerships are not erroneously issued annual IFQ resulting from the collectively-held QS, NMFS seeks to add a requirement that each corporation or partnership annually identify all current shareholders or partners and affirm the entity’s continuing existence as a corporation or partnership.

NMFS’ Restricted Access Management program (RAM) requires annual updates on the status of corporations, partnerships, and other collective entities holding QS for two reasons. First, the IFQ regulations require that collective entities holding QS transfer the collectively-held QS to a qualified individual upon any change in the corporation, partnership, or other collective entity, and the regulations define such a change as the addition of a shareholder, partner, or member to the collective entity. This requirement is intended to promote an owner-operated fishery and to prevent the accumulation of QS by speculative investors. To monitor collectively-held QS adequately, RAM needs the annual updates on the status of collective entities that this collection of information would provide to ensure a collective entity’s continuing existence as such.

Also, the IFQ Program requires that the QS holder be aboard the vessel harvesting the QS holder’s annual IFQ. Under certain conditions, however, an individual QS holder may hire a skipper to fish the QS holder’s IFQ. One such condition is that the QS holder own the vessel from which the hired skipper harvests the IFQ. Since the inception of the IFQ Program in 1995, NMFS’s policy has interpreted vessel ownership liberally to allow an individual QS holder who meets all other conditions to hire a skipper to fish his or her IFQ from a vessel owned by a corporation, partnership, or other collective entity in which the individual QS holder is a shareholder, partner, or member. Likewise, collective entities holding QS may hire skippers to fish the collectively-held IFQ from a vessel owned by a member of the collective. This arrangement is known informally as “indirect ownership.” Hence, to ensure that individuals and collective entities claiming indirect vessel ownership for purposes of hiring skippers are in fact linked to the entity owning the vessel, RAM needs the annual updates on the status of collective entities to monitor “indirect” ownership.

II. Method of Collection

The information is submitted to respond to requirements set forth in a regulation.

III. Data

OMB Number: None.

Form Number: None.

Type of Review: Regular submission.

Affected Public: Not-for-profit institutions, business and other for-profit organizations.

Estimated Number of Respondents: 50.

Estimated Time Per Response: 30 minutes.

Estimated Total Annual Burden Hours: 25.

Estimated Total Annual Cost to Public: $50.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May1, 2001.
Madeleine Clayton,
Departmental Paperwork Clearance Officer, Office of the Chief Information Officer.

[FR Doc. 01-11552 Filed 5-7-01; 8:45 am]

BILLING CODE 3510-22-S